DEPARTMENT OF DEFENSE

Department of the Army

Intent To Grant an Exclusive License of a U.S. Government-Owned Patent

AGENCY: Department of the Army, DoD.

ACTION: Notice; correction.

SUMMARY: The notice of an intent to grant an exclusive license for U.S. patent application 11/229,425, filed September 16, 2005 entitled “Artillery Rocket Trajectory Correction Kit” was originally published in the Federal Register on July 20, 2007 (72 FR 39801) and a correction notice was published in the Federal Register on July 27, 2007 (74 FR 41300). The geographical information has been updated. The correct information is: In accordance with 35 U.S.C. 209 and 37 CFR 404.7(b)(1)(i), announcement is made of the intent to an exclusive, royalty-bearing, revocable license for all geographic areas including the United States of America and its territories and possessions for any patents or patent applications claiming priority to U.S. patent application.

FOR FURTHER INFORMATION CONTACT: Dr. Russ Alexander, Office of Research & Technology Applications, (256) 876-8743.

SUPPLEMENTARY INFORMATION: None.

Brenda S. Bowen,
Army Federal Register Liaison Officer.

[FR Doc. 07-3790 Filed 8-2-07; 8:45 am]

BILLING CODE 3710-08-M